DEPARTMENT OF AGRICULTURE

Federal Crop Insurance Corporation

7 CFR Parts 400 and 457

Crop Insurance Regulations, Removal of Miscellaneous Provisions

AGENCY: Federal Crop Insurance Corporation, USDA.

ACTION: Final rule.

SUMMARY: The Federal Crop Insurance Corporation (FCIC) is removing outdated provisions in 7 CFR chapter IV that are no longer applicable in the administration of the Federal crop insurance program.

EFFECTIVE DATE: March 31, 2004.

FOR FURTHER INFORMATION CONTACT: Louise Narber, Risk Management Specialist, Product Development Division, Federal Crop Insurance Corporation, 6501 Beacon Drive, Stop 0812, Room 421, Kansas City, MO, 64133-4676, telephone (816) 926-7730.

SUPPLEMENTARY INFORMATION:

Executive Order 12866

This rule has been determined to be exempt for the purposes of Executive Order 12866 and, therefore, it has not been reviewed by the Office of Management and Budget (OMB).

Paperwork Reduction Act of 1995

This rule does not contain information collection requirements that would require approval by OMB under the Paperwork Reduction Act of 1995 (44 U.S.C. chapter 35).

Unfunded Mandates Reform Act of 1995

Title II of the Unfunded Mandates Reform Act of 1995 (UMRA) establishes requirements for Federal agencies to assess the effects of their regulatory actions on State, local, and tribal governments and the private sector. This rule contains no Federal mandates (under the regulatory provisions of title II of the UMRA) for State, local, and tribal governments or the private sector. Therefore, this rule is not subject to the requirements of sections 202 and 205 of the UMRA.

Executive Order 13132

The rule will not have a substantial direct effect on states, on the relationship between the national government and the states, or on the distribution of power and responsibilities among the various levels of government. Nor does this rule impose substantial direct compliance costs on state and local governments. Therefore, consultation with the states is not required.

Regulatory Flexibility Act

FCIC certifies that this regulation will not have a significant economic impact on a substantial number of small entities. Program requirements for the Federal crop insurance program are the same for all producers regardless of the size of their farming operation. For instance, all producers are required to submit an application and acreage report to establish their insurance guarantees, and compute premium amounts, or a notice of loss and production information to determine an indemnity payment in the event of an insured cause of crop loss. Whether a producer has 10 acres or 1000 acres, there is no difference in the kind of information collected. To ensure crop insurance is available to small entities, the Federal Crop Insurance Act authorizes FCIC to waive collection of administrative fees from limited resource farmers. FCIC believes this waiver helps to ensure small entities are given the same opportunities to manage their risks through the use of crop insurance. A Regulatory Flexibility Analysis has not been prepared since this regulation does not have an impact on small entities, and, therefore, this regulation is exempt from the provisions of the Regulatory Flexibility Act (5 U.S.C. 605).

Federal Assistance Program

This program is listed in the Catalog of Federal Domestic Assistance under No. 10.450.

Executive Order 12372

This program is not subject to the provisions of Executive Order 12372 which require intergovernmental consultation with State and local officials. See the Notice related to 7 CFR part 3015, subpart V, published at 48 FR 29115, June 24, 1983.

Executive Order 12988

This rule has been reviewed in accordance with Executive Order 12988 on civil justice reform. The provisions of this rule will not have a retroactive effect. The provisions of this rule will preempt State and local laws to the extent such State and local laws are inconsistent herewith. The administrative appeal provisions published at 7 CFR part 11 or 7 CFR 400.169, as applicable, must be exhausted before any action for judicial review of any determination or action by FCIC may be brought.

Environmental Evaluation

This action is not expected to have a significant impact on the quality of the human environment, health, and safety. Therefore, neither an Environmental Assessment nor an Environmental Impact Statement is needed.

Background

FCIC has reviewed its regulations published at 7 CFR chapter IV and determined that § 400.29 at 7 CFR part 400, subpart C; § 400.57 at 7 CFR part 400, subpart G; § 400.127 at 7 CFR part 400, subpart K; § 400.210 at 7 CFR part 400, subpart M; § 400.413 at 7 CFR part 400, subpart Q; § 400.500 at 7 CFR part 400, subpart R; § 400.676 at 7 CFR part 400, subpart U; and 7 CFR part 400 subpart H—Information Collection Requirements Under the Paperwork Reduction Act, OMB Control Numbers are no longer applicable. The provisions for the information collection requirements relating to the collection and displaying of OMB control number by form are obsolete. The OMB numbers listed are not applicable and FCIC does not develop or distribute forms. FCIC only establishes standards used by insurance companies for such purposes. Each insurance company reinsured by FCIC is responsible for their own forms and those forms do not have OMB control numbers. The regulations listed in § 400.51 are removed from 7 CFR except for part 457. Section 457.114 at 7 CFR part 457 is no longer applicable because the nursery provisions that are currently in effect are located in § 457.162. In addition, § 457.115 at 7 CFR part 457 is obsolete.

Since the purpose of this rule is simply to remove the provisions that are obsolete and no longer applicable in the administration of the Federal crop insurance program, this rule is considered a rule of agency practice or procedure. Therefore, under section 553(b) of the Administrative Procedures Act, this rule does not need to be published for notice and comment.

List of Subjects in 7 CFR Parts 400 and 457

Crop insurance.

Final Rule

Accordingly, under the authority of 7 U.S.C. 1506(1) and 1506(p), the Federal Crop Insurance Corporation hereby amends 7 CFR chapter IV as follows:

PART 400—GENERAL ADMINISTRATIVE REGULATIONS

1. The authority citiation for part 400 continues to read as follows:

Authority: 7 U.S.C. 1506(1), 1506(p).

PART 400—[AMENDED]

2. In part 400, remove and reserve §§ 400.29, 400.57, 400.65, 400.66, 400.127, 400.210, 400.413, 400.500, and 400.676.

§ 400.51 [Amended]

3. In § 400.51, in the first sentence, remove the listed regulations following the colon “:” through “7 CFR part 446—Walnut Crop Insurance.”

PART 457—[AMENDED]

4. In part 457, remove and reserve §§ 457.114 and 457.115.

Signed in Washington, DC, on February 25, 2004.
Ross J. Davidson, Jr.,
Manager, Federal Crop Insurance Corporation.

[FR Doc. 04-4456 Filed 2-27-04; 8:45 am]

BILLING CODE 3410-08-P